SMALL BUSINESS ADMINISTRATION

[Disaster Declaration #15320 and #15321; U.S. VIRGIN ISLANDS Disaster Number VI-00011]

Presidential Declaration of a Major Disaster for the U.S. Virgin Islands

AGENCY: U.S. Small Business Administration.

ACTION: Notice.

SUMMARY: This is a Notice of the Presidential declaration of a major disaster for the U.S. Virgin Islands (FEMA-4340-DR), dated 09/20/2017.

Incident: Hurricane Maria.

Incident Period: 09/16/2017 and continuing.

DATES: Issued on 09/20/2017.

Physical Loan Application Deadline Date: 11/20/2017.

Economic Injury (EIDL) Loan Application Deadline Date: 06/20/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: Notice is hereby given that as a result of the President's major disaster declaration on 09/20/2017, applications for disaster loans may be filed at the address listed above or other locally announced locations.

The following areas have been determined to be adversely affected by the disaster:

Primary Areas (Physical Damage and Economic Injury Loans): Saint Croix

Contiguous Counties (Economic Injury Loans Only): None

The Interest Rates are:

| Percent
For Physical Damage:
Homeowners With Credit Available Elsewhere | 3.500
Homeowners Without Credit Available Elsewhere | 1.750
Businesses With Credit Available Elsewhere | 6.610
Businesses Without Credit Available Elsewhere | 3.305
Non-Profit Organizations With Credit Available Elsewhere | 2.500
Non-Profit Organizations Without Credit Available Elsewhere | 2.500
For Economic Injury:
Businesses & Small Agricultural Cooperatives Without Credit Available Elsewhere | 3.305
Non-Profit Organizations Without Credit Available Elsewhere | 2.500

The number assigned to this disaster for physical damage is 153208 and for economic injury is 153210.

(Catalog of Federal Domestic Assistance Number 59008)

James E. Rivera,
Associate Administrator for Disaster Assistance.

[FR Doc. 2017-20731 Filed 9-27-17; 8:45 am]

BILLING CODE 8025-01-P